DEPARTMENT OF AGRICULTURE

Submission for OMB Review; Comment Request, Correction

December 17, 2009.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food Safety and Inspection Service

Title: Be Food Safe Campaign Pilot Survey.

OMB Control Number: 0583-New.

Summary of Collection: The Food Safety and Inspection Service (FSIS) has been delegated the authority to exercise the functions of the Secretary as provided in the Federal Meat Inspection Act (FMIA) (21 U.S.C. 601 et seq.), the Poultry Products Inspection Act (PPIA) (21 U.S.C. 451 et seq.), and the Egg Products Inspection Act (EPIA) (21 U.S.C. 1031 et seq.). These statutes mandate that FSIS protect the public by verifying that meat and poultry products are safe, wholesome, unadulterated, and properly labeled and packaged. FSIS has established the Be Food Safe campaign to educate consumers about the importance of safe food handling and how to reduce the risks associated with foodborne illness. As a part of the Be Food Safe campaign, the Agency plans to purchase advertising in Oklahoma City mass media outlets to promote safe food handling messages to consumers and to measure consumer awareness and response. The Campaign will be targeted at women, aged 25 to 49, who are caregivers for children under the age of 10 or for older adults. FSIS will collect information using two surveys (pre and post).

Need and Use of the Information: The data collected in the surveys will allow FSIS to examine what knowledge members of the target audience had about food safety before the campaign, whether they were aware of the campaign and, if they were, whether they changed any food preparation behaviors as a result. The information collected will be used to refine the campaign's messages, materials, and approaches in order to improve its overall effectiveness.

Description of Respondents: Individuals or households.

Number of Respondents: 800.

Frequency of Responses: Reporting: Other (once).

Total Burden Hours: 88.

Ruth Brown,
Departmental Information Collection Clearance Officer.

[FR Doc. E9-30475 Filed 12-22-09; 8:45 am]

BILLING CODE 3410-DM-P